DEPARTMENT OF ENERGY

Federal Energy Regulatory Commission

Sunshine Act Meetings

TIME AND DATE: May 13, 2021, 4:00 p.m.

PLACE: Secure video conference.

STATUS: Closed.

MATTERS TO BE CONSIDERED: Non-public investigations and inquiries, enforcement related matters.

Notice of Meeting, Notice of Vote, Explanation of Action Closing Meeting and List of Persons to Attend

The following notice of meeting is published pursuant to Section 3(a) of the Government in the Sunshine Act (Pub. L. 94-409), 5 U.S.C. 552b:

Agency Holding Meeting: Federal Energy Regulatory Commission.

Chairman Glick and Commissioners Chatterjee, Danly, Clements, and Christie voted to hold a closed meeting on May 13, 2021. The certification of the General Counsel explaining the action closing the meeting is available for public inspection on https://www.ferc.gov/ferc-online/eLibrary.

The Chairman and the Commissioners, their assistants, the Commission's Secretary, and a stenographer are expected to attend the meeting. Other staff members from the Commission's program offices who will advise the Commissioners in the matters discussed will also be present.

CONTACT PERSON FOR MORE INFORMATION: Kimberly D. Bose, Secretary. Telephone (202) 502-8400.

Dated: May 6, 2021.
Kimberly D. Bose,
Secretary.

[FR Doc. 2021-10049 Filed 5-11-21; 4:15 pm]

BILLING CODE 6717-01-P